DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, e-mail paperwork@hrsa.gov or call the HRSA Reports Clearance Office on 301-443-1129.

The following request has been submitted to the Office of Management and Budget for review under the Paperwork Reduction Act of 1995:

Proposed Project: The National Health Service Corps Uniform Data System (OMB No. 0915-0232) Extension

HRSA's Bureau of Clinician Recruitment and Service places National Health Service Corps (NHSC) health care professionals at sites that provide services to underserved and vulnerable populations. The NHSC Uniform Data System report (UDS) is completed by sites that receive the placement of an NHSC provider, if those sites are not currently receiving HRSA grant support. The NHSC UDS provides information that is utilized for monitoring and evaluation of program operations and effectiveness, and to accurately report on the scope of supported activities.

The estimated annual burden is as follows:

Instrument | Number of respondents | Responses per respondent | Total responses | Hours per response | Total burden hours
Uniform Data System | 1,200 | 1 | 1,200 | 27 | 32,400

Written comments and recommendations concerning the proposed information collection should be sent within 30 days of this notice to the desk officer for HRSA, either by e-mail to OIRA_submission@omb.eop.gov or by fax to 202-395-6974. Please direct all correspondence to the “attention of the desk officer for HRSA.”

Dated: September 26, 2008.
Alexandra Huttinger,
Director, Division of Policy Review and Coordination.

[FR Doc. E8-23222 Filed 10-1-08; 8:45 am]

BILLING CODE 4165-15-P